DEPARTMENT OF ENERGY

Federal Energy Regulatory Commission

[Project No. 12486-008]

Franklin County Idaho; Notice of Application Tendered for Filing With the Commission and Establishing Procedural Schedule for Licensing and Deadline for Submission of Final Amendments

Take notice that the following hydroelectric application has been filed with the Commission and is available for public inspection.

a. Type of Application: Original Major License.

b. Project No.: 12486-008.

c. Date Filed: November 27, 2013.

d. Applicant: Twin Lakes Canal Company (Twin Lakes).

e. Name of Project: Bear River Narrows Hydroelectric Project.

f. Location: The proposed project would be located on the Bear River, near the city of Preston, in Franklin County, Idaho. The project would occupy 243 acres of federal land managed by the Bureau of Land Management.

g. Filed Pursuant to: Federal Power Act, 16 U.S.C. 791(a)-825(r).

h. Applicant Contact: Nick E. Josten, Geosense, 2742 Saint Charles Avenue, Idaho Falls, ID 83404, (208) 528-6152.

i. FERC Contact: Shana Murray at shana.murray@ferc.gov or (202) 502-8333.

j. This application is not ready for environmental analysis at this time.

k. The Project Description: The proposed project facilities include: (1) A new 109-foot-high roller compacted concrete dam and spillway creating a reservoir with a gross storage capacity of 12,467 acre-foot; (2) a 48-foot-long, 16-foot-wide, and 20-foot-high concrete intake structure near the upstream toe of the dam; (3) a 14-foot-diameter, 600-foot-long steel penstock; (3) an 80-foot-long, 52-foot-wide, and 24-foot-high powerhouse containing two, 5-megawatt vertical Francis turbines with a combined maximum hydraulic capacity of 1,400 cubic feet per second (cfs); (4) a 0.74-mile, 46-kilovolt transmission line connecting a proposed substation near the base of the powerhouse to an existing, PacifiCorp-owned transmission line; and (5) appurtenant facilities.

Except for irrigation withdrawals during dry years, Twin Lakes proposes to operate in the project run-of-river, with daily releases from the new reservoir matching releases from the upstream Oneida Project (FERC No. 20). During dry water year irrigation releases, Twin Lakes proposes to release additional water for irrigation purposes but maintain a minimum flow downstream of the proposed project.

As an alternative, Twin Lakes is considering using the new reservoir to re-regulate discharge from upstream Oneida Reservoir, providing potential benefits to downstream aquatic habitat. In this mode the reservoir elevation would vary each day over a range of several feet.

Twin Lakes estimates that the average annual generation would be about 48,531 megawatt-hours.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: The application will be processed according to the following preliminary Hydro Licensing Schedule. Revisions to the schedule may be made as appropriate.

Milestone | Target date
Notice of Acceptance/Notice of Ready for Environmental Analysis | March 7, 2014.
Filing of recommendations, preliminary terms and conditions, and fishway prescriptions | May 6, 2014.
Commission issues Draft EIS | November 3, 2014.
Comments on Draft EIS | January 12, 2015.
Modified Terms and Conditions | March 3, 2015.
Commission Issues Final EIS | June 1, 2015.

o. Final amendments to the application must be filed with the Commission no later than 30 days from the issuance date of the notice of ready for environmental analysis.

Dated: December 11, 2013.
Kimberly D. Bose,
Secretary.

[FR Doc. 2013-30038 Filed 12-17-13; 8:45 am]

BILLING CODE 6717-01-P